DEPARTMENT OF ENERGY

Federal Energy Regulatory Commission

[Project No. 9185-009]

Flambeau Hydro, LLC; Notice of Application Ready for Environmental Analysis and Soliciting Comments, Recommendations, Terms and Conditions, and Prescriptions

December 2, 2005.

Take notice that the following hydroelectric license application has been filed with the Commission and is available for public inspection.

a. Type of Application: Subsequent License.

b. Project No.: P-9185-009.

c. Date Filed: April 1, 2005.

d. Applicant: Flambeau Hydro, LLC.

e. Name of Project: Clam River Hydroelectric Project.

f. Location: Located on the Clam River in Burnett County, Wisconsin. This project does not occupy federal lands.

g. Filed Pursuant to: Federal Power Act 16 U.S.C. 791(a)-825(r).

h. Applicant Contact: Scott Klabunde, North American Hydro, Inc., P.O. Box 167, Neshkoro, WI 54960; 920-293-4628 ext. 14.

i. FERC Contact: Patrick Murphy, (202) 502-8755, patrick.murphy@ferc.gov.

j. Deadline for filing comments, recommendations, terms and conditions, and prescriptions: 60 days from the issuance date of this notice; reply comments are due 105 days from issuance date of this notice.

All documents (original and eight copies) should be filed with: Magalie R. Salas, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See CFR 385.2001 (a)(1)(iii) and the instructions on the Commission's Web site (http://www.ferc.gov) under the “eFiling” link.

k. This application has been accepted, and is ready for environmental analysis at this time.

l. The existing Clam River Project consists of: (1) A 46-foot-high buttress-type concrete dam with a 54-foot-wide spillway with four sections, (three sections equipped with 8-inch-high stoplogs, and one section equipped with a 4-foot-high slide gate); (2) 898-foot-long and 223-foot-long earthen dike connecting the left side and the right side of the concrete dam, respectively; (3) a 360-acre reservoir with a net storage capacity of 3,575 acre-feet at a normal water surface elevation of 898.6 feet mean sea level (msl); (4) two powerhouses built into the dam, containing three 400-kW turbine generating units with a total installed capacity of 1,200 kilowatt (kW); (5) a 100-foot-long, 2.4-kW transmission line; and (6) appurtenant facilities. The dam and existing project facilities are owned by Flambeau Hydro, LLC.

m. A copy of the application is available for review at the Commission in the Public Reference Room or may be viewed on the Commission's Web site at http://www.ferc.gov using the “e-Library” link. Enter the docket number excluding the last three digits in the docket number field to access the document. For assistance, contact FERC Online Support at FERCOnlineSupport@ferc.gov or toll-free at 1-866-208-3676, or for TTY, (202) 502-8659. A copy is also available for inspection and reproduction at the address in item h. above.

All filings must: (1) Bear in all capital letters the title “COMMENTS”, “REPLY COMMENTS”, “RECOMMENDATIONS”, “TERMS AND CONDITIONS”, or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/esubscribenow.htm to be notified via e-mail of new filings and issuances related to this or other pending projects. For assistance, contact FERC Online Support.

n. Procedural schedule: The Commission staff proposes to issue an Environmental Assessment (EA) rather than issuing a draft and final EA. Staff intends to allow at least 30 days for entities to comment on the EA, and will take into consideration all comments received on the EA before final action is taken on the license application. The application will be processed according to the following schedule, but revisions to the schedule may be made as appropriate:

Issue Notice of availability of the EA: March 31, 2006.

Ready for Commission decision on the application: May 30, 2006.

Final amendments to the application must be filed with the Commission no later than 30 days from the issuance date of the notice of ready for environmental analysis.

Magalie R. Salas,
Secretary.

[FR Doc. E5-7142 Filed 12-8-05; 8:45 am]

BILLING CODE 6717-01-P